ENVIRONMENTAL PROTECTION AGENCY

[ER-FRL-6661-6]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7146. An explanation of the ratings assigned to draft environmental impact statements (EISs) was published in the Federal Register dated April 2, 2004 (69 FR 17403).

Draft EISs

ERP No. D-AFS-G65097-NM Rating LO, Tajique Watershed Restoration Project, Proposes Fuel Reduction and Restore Forest Health, Cibola National Forest, Torraine County, NM.

Summary: EPA expressed lack of objections to the preferred alternative.

ERP No. D-NPS-G02014-TX Rating EC2, Big Thicket National Preserve Oil and Gas Management Plan, Implementation, Hardin, Jefferson, Orange, Liberty, Tyler, Jasper and Polk Counties, TX.

Summary: EPA expressed environmental concerns with impacts to jurisdictional wetlands and requests additional information on the delineation of these wetlands be incorporated in the Final EIS.

Final EISs

ERP No. F-AFS-J65402-WY, Tongue Allotment Management Plan, Proposal to Continue Livestock Grazing on All or Portions of the 22 Allotment, Bighorn National Forest, Tongue and Medicine Wheel/Paintrock Ranger Districts, Johnson, Sheridan and Bighorn Counties, WY.

Summary: EPA continued to express concerns with potential adverse impacts to water quality and riparian zones from livestock grazing and recreation. EPA's request for additional evaluation, disclosure, and mitigation in the Final EIS and recommendation to eliminate grazing impacts near important aquatic resources were not addressed.

ERP No. F-AFS-L65405-AK, Shoreline Outfitter/Guide Plan, Commercial Permits Issuance for Shoreline-Based Activities on National Forest System Lands, Admiralty Island National Monument, Hoonah, Sitka and Juneau Ranger Districts, Tongass National Forest, AK.

Summary: No formal comment letter was sent to the preparing agency.

ERP No. F-FHW-C40158-NY, Slingerlands Bypass Extension (NYS Route 85) (P.I.N. 1125.19) Route 140 (Cherry Avenue Extension) to the Albany City Line, Reconstruction Town of Bethlehem, Albany County, NY.

Summary: EPA continues to have environmental concerns with the preferred alternative regarding the adequacy of mitigation for impacts to forested wetlands.

ERP No. F-FHW-F40419-MN, MN-371 North Improvement Project, Reconstruction from the intersection of Crow Wing County Road 18 in Nisswa to the Intersection of Cass County Road 42 in Pine River, Funding, NPDES Permit, and U.S. Army COE Section 404 Permit Issuance, Crow Wing and Cass Counties, MN.

Summary: EPA has no objection to the action as proposed since previous comments were adequately addressed. Wetland mitigation issues will be pursued as part of the CWA Section 404 permit review.

ERP No. F-NIH-G84000-TX, Galveston National Laboratory for Biodefense and Emerging Infectious Diseases Research Facility at the University of Texas Medical Branch, Construction, Partial Funding, Grant, Galveston, TX.

Summary: No formal comment letter was sent to the preparing agency.

ERP No. F-NRC-E09809-SC, Savannah River Site Construction and Operation of a Mixed Oxide (MOX) Fuel Fabrication Facility, NUREG-1767, Aiken, Barnwell and Allendale Counties, SC.

Summary: EPA continues to have environmental concerns about the project regarding the hazardous and radioactive wastes associated with the exhaust that will be generated during operation of the proposed facility. However, EPA acknowledges that NRC will address related air emissions issues during the Clean Air Act permitting process.

ERP No. F-SFW-L64050-00, Caspian Tern (sterna caspia) Management to Reduce Predation of Juvenile Salmonids in the Columbia River Estuary, To Comply with the 2002 Settlement Agreement, Endangered Species Act (ESA), Columbia River, WA, OR, ID and CA.

Summary: EPA's concerns associated with tern consumption of ESA-listed Salmonids, alternative nesting sites and water quality impacts were addressed in the Final EIS. However, EPA continued to express concerns over whether the proposed relocation of terns to newly created nesting sites would be successful.

ERP No. F-UAF-G11045-TX, Relocation of the C-5 Formal Training Unit from Altus Air Force Base, Oklahoma to Lackland Air Force Base, Bexar County, TX.

Summary: No formal comment letter was sent to the preparing agency.

ERP No. F-USA-G11044-00, Fort Bliss, Texas Proposed Leasing of Lands, Proposed Siting, Construction and Operation, by the City of EL Paso of a Brackish Water Desalination Plant and Support Facilities, EL Paso Water Utilities (EPWU), City of EL Paso, TX and New Mexico.

Summary: No formal comment letter was sent to the preparing agency.

Dated: March 15, 2005.
B. Katherine Biggs,
Associate Director, Office of Federal Activities.

[FR Doc. 05-5418 Filed 3-17-05; 8:45 am]

BILLING CODE 6560-50-P